DEPARTMENT OF THE INTERIOR

Fish and Wildlife Service

Endangered and Threatened Species Permit Applications

AGENCY: Fish and Wildlife Service, Interior.

ACTION: Notice of receipt of applications.

SUMMARY: The following applicants have applied for a scientific research permit to conduct certain activities with endangered species pursuant to section 10(a)(1)(A) of the Endangered Species Act of 1973, as amended (16 U.S.C. 1531, et seq.).

DATES: Written comments on these permit applications must be received within 30 days of the date of publication.

ADDRESSES: Written data or comments should be submitted to the Chief, Endangered Species Division, Ecological Services, P.O. Box 1306, Room 4102, Albuquerque, New Mexico 87103; (505) 248-6649; Fax (505) 248-6788. Documents will be available for public inspection by written request, by appointment only, during normal business hours (8 to 4:30) at the U.S. Fish and Wildlife Service, 500 Gold Ave. SW, Room 4102, Albuquerque, New Mexico. Please refer to the respective permit number for each application when submitting comments. All comments received, including names and addresses, will become part of the official administrative record and may be made available to the public.

FOR FURTHER INFORMATION CONTACT: Chief, Endangered Species Division, Ecological Services, P.O. Box 1306, Room 4102, Albuquerque, New Mexico 87103. Documents and other information submitted with these applications are available for review, subject to the requirements of the Privacy Act and Freedom of Information Act, by any party who submits a written request to the address above for a copy of such documents within 30 days of the date of publication of this notice.

SUPPLEMENTARY INFORMATION:

Permit No. TE-057946

Applicant: USDA Natural Resource Conservation Service, Flagstaff, Arizona.

Applicant requests a permit for recovery purposes to conduct presence/absence surveys for southwestern willow flycatcher (Empidonax traillii extimus) within Arizona, California, Nevada, New Mexico, and Utah.

Permit No. TE-802956

Applicant: Walcoff & Associates, White Sands Missile Range, New Mexico.

Applicant requests an amendment to an existing permit to allow presence/absence surveys within White Sands Missile Range, New Mexico for the following species: southwestern willow flycatcher (Empidonax traillii extimus), black-footed ferret (Mustela nigripes), and whooping crane (Grus americana).

Permit No. TE-820083

Applicant: Oklahoma Cooperative Fish & Wildlife Rescue Unit, Stillwater, Oklahoma.

Applicant requests an amendment to an existing permit to allow collection of Clear Creek gambusia (Gambusia heterchir) within Menard County, Texas.

Permit No. TE-841359

Applicant: USDA Forest Service, Gila National Forests, Silver City, New Mexico.

Applicant requests an amendment to an existing permit to allow monitoring surveys for Gila trout (Oncorhynchus gilae) within the Gila National Forest. Methodology may include use of seines, dip nets, and electrofishing.

Permit No. TE-055422

Applicant: BIO-Logic Environmental, Montrose, Colorado.

Applicant requests a permit for recovery purposes to conduct presence/absence surveys for southwestern willow flycatcher (Empidonax traillii extimus) within Colorado.

Permit No. TE-059141

Applicant: City of New Braunfels, New Braunfels, Texas.

Applicant requests a permit for research and recovery purposes to allow habitat management for the fountain darter (Etheostoma fonticola), within Comal County, Texas, in the form of aquatic plant removal resulting in some take of fountain darter eggs.

Permit No. TE-059794

Applicant: Mary Darling, Tucson, Arizona.

Applicant requests a permit for research and recovery purposes to conduct presence/absence surveys within Arizona for the following species: southwestern willow flycatcher (Empidonax traillii extimus), cactus ferruginous pygmy owl (Glaucidium brasilianum cactorum), Sonoran tiger salamander (Ambystoma tigrinum stebbinsi), and Gila topminnow (Poeciliopsis occidentalis).

Leslie A. Dierauf,
Acting Assistant Regional Director, Ecological Services, Region 2, Albuquerque, New Mexico.

[FR Doc. 02-23650 Filed 9-17-02; 8:45 am]

BILLING CODE 4310-55-P